NATIONAL ARCHIVES AND RECORDS ADMINISTRATION

[NARA-2022-013]

Advisory Committee on the Records of Congress; Meeting

AGENCY: National Archives and Records Administration (NARA).

ACTION: Notice of meeting.

SUMMARY: We are announcing an upcoming meeting of the Advisory Committee on the Records of Congress in accordance with the Federal Advisory Committee Act. The committee advises NARA on the full range of programs, policies, and plans for the Center for Legislative Archives in the Office of Legislative Archives, Presidential Libraries, and Museum Services (LPM).

DATES: The meeting will be on December 3, 2021, from 1:00 p.m. to 2:30 p.m. EST.

ADDRESSES: This will be a virtual meeting. To attend via video, please use the Webex link https://ems8.intellor.com/login/841016, and follow the prompts to connect audio by computer or telephone. To attend by telephone only, please call 888.251.2949 or 215.861.0694, then enter access code 8551042#.

FOR FURTHER INFORMATION CONTACT: James Wyatt, at The Center for Legislative Archives, by email at James.Wyatt@nara.gov or by telephone at 202.357.5016.

SUPPLEMENTARY INFORMATION: This virtual meeting is open to the public in accordance with the Federal Advisory Committee Act (5 U.S.C. app 2) and implementing regulations.

Agenda

(1) Chair's opening remarks—Clerk of the U.S. House of Representatives

(2) Recognition of co-chair—Secretary of the U.S. Senate

(3) Recognition of the Archivist of the United States

(4) Approval of the minutes of the last meeting

(5) Senate Archivist's report

(6) House Archivist's report

(7) Center for Legislative Archives update

(8) Other current issues and new business

Tasha Ford,
Committee Management Officer.

[FR Doc. 2021-25482 Filed 11-22-21; 8:45 am]

BILLING CODE 7515-01-P